DEPARTMENT OF THE INTERIOR

Bureau of Indian Affairs

25 CFR Part 23

[K00103 12/13 A3A10; 134D0102DR-DS5A300000-DR.5A311.IA000113]

RIN 1076-AF25

Indian Child Welfare Act Proceedings

AGENCY: Bureau of Indian Affairs, Interior.

ACTION: Announcement of training sessions.

SUMMARY: The Department of the Interior (Department) is hosting training sessions on its regulations implementing the Indian Child Welfare Act (ICWA) for federally recognized Indian Tribes and for State court and child welfare agency personnel. This document announces the dates and locations of the training sessions.

DATES: See the SUPPLEMENTARY INFORMATION section of this document for dates of the training sessions.

ADDRESSES: See the SUPPLEMENTARY INFORMATION section of this document for addresses of the training sessions.

FOR FURTHER INFORMATION CONTACT: Ms. Debra Burton, ICWA Specialist, Office of Indian Services, Bureau of Indian Affairs, (202) 513-7610, debra.burton@bia.gov, or Ms. Elizabeth Appel, Office of Regulatory Affairs & Collaborative Action—Indian Affairs, (202) 273-4680; elizabeth.appel@bia.gov.

SUPPLEMENTARY INFORMATION: On June 14, 2016, the Department published a final rule on Indian Child Welfare Act proceedings, in implementation of ICWA. See 81 FR 38778. To help those affected by the final rule—in particular States courts, State agencies, Tribes, private agencies—to prepare for the December 12, 2016, effective date of the final rule, the Department is offering several training sessions on the final rule.

The following chart shows the current schedule for training sessions. Please check the following Web site for updates: http://www.bia.gov/WhoWeAre/BIA/OIS/HumanServices/index.htm. This Web site also includes the training materials and the full text of the regulation.

Date | Time | Type | Location
Monday, August 15, 2016 | 2:00 p.m.-4:00 p.m. (ET) | Webinar | Please see Web site listed above for call-in and log-in information.
Tuesday, August 16, 2016 | 2:00 p.m.-4:00 p.m. (ET) | Webinar | Please see Web site listed above for call-in and log-in information.
Thursday, August 18, 2016 | 8:30 a.m.-4:00 p.m. (Local Time) | On-Site | St. Paul, Minnesota—Doubletree St. Paul, 411 Minnesota Street, St. Paul, MN 55101.
Wednesday, August 24, 2016 | 8:30 a.m.-4:00 p.m. (Local Time) | On-Site | Oklahoma City, OK—Supreme Court of Oklahoma, Judicial Center Auditorium, 2100 North Lincoln, Suite 3, Oklahoma City, OK 73105.
Wednesday, September 7, 2016 | 8:30 a.m.-4:00 p.m. (Local Time) | On-Site | Sacramento, CA—Secretary of State Auditorium, 1500 11th Street, Sacramento, CA 95814.
Thursday, September 15, 2016 | 8:30 a.m.-4:00 p.m. (Local Time) | On-Site | Albany, NY—Empire State Plaza Convention Center, Meeting Rooms 2 & 3, Albany, NY 12242.
Thursday, September 22, 2016 | 8:30 a.m.-4:00 p.m. (Local Time) | On-Site | Pierre, SD—Best Western Ramkota Hotel & Convention Center, Amphitheater II, 920 West Sioux Ave., Pierre, SD 57501.
Wednesday, October 5, 2016 | 8:30 a.m.-4:00 p.m. (Local Time) | On-Site | Anchorage, AK—Embassy Suites Hilton, Imagine Ballroom, 600 E. Benson Blvd., Anchorage, AK 99503.
Wednesday, October 19, 2016 | 8:30 a.m.-4:00 p.m. (Local Time) | On-Site | Olympia, WA—Legislative Building on the Capitol Campus, Columbia Room, Sid Snyder and Cherry Lane SW., Olympia, WA 98504-1034.
Wednesday, November 2, 2016 | 9:30 a.m.-5:00 p.m. (Local Time) | On-Site | Phoenix, AZ—Burton Barr Central Library, The Pulliam Auditorium, 1221 N. Central Avenue, Phoenix, AZ 85004.
Tuesday, November 15, 2016 | 2:00 p.m.-4:00 p.m. (ET) | Webinar | Please see Web site listed above for call-in and log-in information.
Thursday, November 17, 2016 | 2:00 p.m.-4:00 p.m. (ET) | Webinar | Please see Web site listed above for call-in and log-in information.

At the on-site sessions, trainers will present material during the morning hours, to allow sufficient additional time for discussion.

Each session is open to Tribes, State child welfare agency personnel, and State court personnel. Separate training sessions are being planned for others interested in the new rule and will be announced at a later date. Because space is limited, we ask that you RSVP to comments@bia.gov for each session you plan to attend by submitting your name and the location (or webinar) you plan to attend. Please also note that some on-site locations are at government facilities that may include security screening, and plan accordingly.

Dated: July 13, 2016.
Lawrence S. Roberts,
Acting Assistant Secretary—Indian Affairs.

[FR Doc. 2016-17269 Filed 7-20-16; 8:45 am]

BILLING CODE 4337-15-P